ENVIRONMENTAL PROTECTION AGENCY

[FRL-9999-25-Region 2]

Proposed CERCLA Cost Recovery Settlement Regarding the Lightman Drum Company Superfund Site, Camden County, New Jersey

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA between EPA and Air Products and Chemicals, Inc.; Alco Industries Inc.; Bayer CropScience, Inc.; Colonial Heights Packaging Inc.; Continental Holdings Inc.; Croda Inks Corp.; Forenco, Inc.; Henkel US Operations Corporation, for itself and on behalf of Amchem Products, Inc,; LANXESS Sybron Chemicals, Inc.; Reynolds Metals Company, LLC; The Hillshire Brands Company; Sonoco Products Company; Stepan Company; Union Carbide Corporation; and USG Corporation (“Settling Parties”) regarding the Lightman Drum Company Superfund Site, Winslow Township, Camden County, New Jersey (“Site”). Pursuant to the proposed cost recovery settlement agreement, the Settling Parties will pay $13,526.88 to resolve the Settling Parties' civil liability under Section 107(a) of CERCLA for past response costs and will pay future response costs for the Site.

DATES: Comments must be submitted on or before October 4, 2019.

ADDRESSES: The proposed settlement agreement is available for public inspection at EPA's Region 2 offices. To request a copy of the proposed settlement agreement, please contact the EPA employee identified in the FOR FURTHER INFORMATION CONTACT section below.

FOR FURTHER INFORMATION CONTACT: Amelia Wagner, Assistant Regional Counsel, U.S. Environmental Protection Agency, Region 2, Office of Regional Counsel, 290 Broadway-17th Floor, New York, New York 10007-1866. Email: wagner.amelia@epa.gov. Telephone: (212) 637-3141.

SUPPLEMENTARY INFORMATION: For 30 days following the date of publication of this notice, EPA will receive written comments concerning the proposed cost recovery settlement agreement. Comments to the proposed settlement agreement should reference the Lightman Drum Company Superfund Site, U.S. EPA Index No. CERCLA-02-2019-2004. EPA will consider all comments received during the 30-day public comment period and may modify or withdraw its consent to the settlement agreement if comments received disclose facts or considerations that indicate that the proposed settlement agreement is inappropriate, improper, or inadequate. EPA's response to comments will be available for public inspection at EPA's Region 2 offices located at 290 Broadway, New York, NY 10007-1866.

Dated: August 6, 2019.
Pat Evangelista,
Acting Director, Superfund and Emergency Management Division, Region 2.

[FR Doc. 2019-19098 Filed 9-3-19; 8:45 am]

BILLING CODE 6560-50-P